DEPARTMENT OF THE INTERIOR

Fish and Wildlife Service

[FWS-R1-ES-2022-N021; FXES11140100000-223-FF01E0000]

Port Blakely Company; John Franklin Eddy Forestlands Habitat Conservation Plan and Environmental Assessment; Receipt of Incidental Take Permit Application

AGENCY: Fish and Wildlife Service, Interior.

ACTION: Notice of availability; request for comments.

SUMMARY: We, the U.S. Fish and Wildlife Service (FWS), have received an incidental take permit (ITP) application from the Port Blakely Company, including a habitat conservation plan (HCP) for the John Franklin Eddy Forestlands in Clackamas County, Oregon. Port Blakely submitted the ITP application and HCP pursuant to the Endangered Species Act. The National Marine Fisheries Service (NMFS) also received an ITP application from Port Blakely and, concurrent with this notice, has also published a notice of availability for comment on the ITP application, the applicant's HCP, and, as the lead Federal agency under the National Environmental Policy Act, a draft environmental assessment (draft EA) analyzing the potential effects of issuance of the respective ITPs. We invite the public and local, State, Tribal, and Federal agencies to comment on these documents.

DATES: Written comments must be received by no later than 5 p.m. Pacific Standard Time on July 14, 2022. Any comments received after the closing date may not be considered in the final decision on these actions.

ADDRESSES:

Obtaining documents: The HCP and draft EA are available on the internet at https://www.fisheries.noaa.gov/action/port-blakely-habitat-conservation-plan-john-franklin-eddy-forestlands.

Submitting comments: Submit comments in writing via email to portblakely.hcp@noaa.gov. Include the following in the email subject line: “Comments on Port Blakely HCP/Draft EA.” Please specify whether your comments are associated with the HCP or the draft EA, and refer to the specific page number and line number of the document on which you are commenting. FWS and NMFS will consider all relevant comments submitted in response to the respective notices of availability. There is no need to submit identical comments in response to both notices (please also see Public Availability of Comments).

FOR FURTHER INFORMATION CONTACT: Joe Zisa, by email at Joe_Zisa@fws.gov or via phone at 503-231-6961. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (FWS), have received an incidental take permit (ITP) application from the Port Blakely Company, including a habitat conservation plan (HCP) for the John Franklin Eddy Forestlands in Clackamas County, Oregon. Port Blakely submitted the ITP application and HCP pursuant to section 10(a)(1)(B) of the Endangered Species Act of 1973, as amended (ESA; 16 U.S.C. 1531 et seq.). The permit, if issued, would authorize incidental take of species under FWS jurisdiction resulting from the timber harvest, silviculture, road management, and conservation activities described in the HCP, for a permit term of 50 years.

The National Marine Fisheries Service (NMFS) also received an ITP application and, concurrent with this notice, has also published a notice of the availability for comment on that ITP application, the HCP and, as the lead Federal agency under the National Environmental Policy Act of 1969, as amended (NEPA; 42 U.S.C. 4321 et seq.), a draft environmental assessment (draft EA) analyzing the potential effects of issuance of the respective ITPs. FWS is a cooperating agency under NEPA for this proposed action. Both notices are soliciting public comments through a single process, described below.

Species Included in the Habitat Conservation Plan

Port Blakely's habitat conservation plan (HCP) includes three ESA-listed species that are under the jurisdiction of FWS, and three ESA-listed species that are under the jurisdiction of NMFS. The HCP also includes 14 species not listed under the ESA.

ESA-Listed Species Under FWS Jurisdiction:

• Bull trout (Salvelinus confluentus): threatened

• Gray wolf (Canis lupus): endangered

• Northern spotted owl (Strix occidentalis caurina): threatened

ESA-Listed Species Under NMFS Jurisdiction:

• Chinook salmon (Oncorhynchus tshawytscha): threatened Lower Columbia River (LCR) evolutionarily significant unit (ESU); threatened Upper Willamette River (UWR) ESU

• Coho salmon (Oncorhynchus kisutch): threatened LCR ESU

• Steelhead (Oncorhynchus mykiss): threatened LCR distinct population segment (DPS); threatened UWR DPS

Non-ESA-Listed Species:

• Pacific lamprey (Lampetra tridentata)

• Cascades frog (Rana cascadae)

• Coastal tailed frog (Ascaphus truei)

• Cascade torrent salamander (Rhyacotriton cascadae)

• Oregon slender salamander (Batrachoseps wright)

• Western/North Pacific pond turtle (Actinemys marmorata marmorata)

• Northern goshawk (Accipiter gentilis)

• Pacific fisher (Pekania pennanti)

• Townsend's big-eared bat (Corynorhinus townsendii spp.)

• Hoary bat (Lasiurus cinereus)

• Silver-haired bat (Lasionycteris noctivagans)

• Fringed myotis bat (Myotis thysanodes)

• Long-eared myotis bat (Myotis evotis)

• Long-legged myotis bat (Myotis volans)

Background

Section 9 of the ESA prohibits the taking of a species listed as endangered or threatened. The ESA defines “take” to mean to harass, harm, pursue, hunt, shoot, wound, kill, trap, capture, or collect, or to attempt to engage in any such conduct. The FWS may issue permits, under limited circumstances, to take listed species incidental to otherwise lawful activities pursuant to section 10(a)(1)(B) of the ESA and implementing regulations (50 CFR 17.22(b) and 17.32(b)).

On August 16, 2020, NMFS and FWS received separate applications from Port Blakely for ITPs to authorize take of the above species that may occur incidental to Port Blakely's timber harvest, silviculture, road management, and conservation activities on approximately 30,000 acres of its John Franklin Eddy Forestlands in the Clackamas River and Molalla River Basins of Oregon. In association with the applications, the applicant submitted a HCP, which specifies the impacts to the species that will likely result from implementing the covered activities, steps that Port Blakely will take to minimize and mitigate such impacts, procedures to account for unforeseen or changed circumstances, a plan for monitoring and adaptive management, and a description of funding assurances. Authorization for take of the species not currently listed under the ESA addressed by the HCP would be included in the ITP proposed for issuance by FWS; the take authorization would be in effect for one or more of the species if the FWS lists the species during the permit term.

The proposed issuance of the ITPs is considered a Federal action under NEPA, and NMFS prepared a draft environmental assessment (EA) to analyze the potential impacts on the human environment in accordance with the requirements of NEPA, with input from FWS as a cooperating agency. Further information regarding the Draft EA is described in the NMFS notice of availability.

Next Steps

After the public comment period ends (see DATES), FWS and NMFS will each evaluate the permit applications, associated documents, and any comments received to make their permit decisions based on the statutory and regulatory criteria of the ESA. Each agency will document its determination independently, in separate ESA section 10 findings documents and ESA Section 7 biological opinions. NMFS will also finalize the EA and determine whether the proposed action warrants a finding of no significant impact, or whether an environmental impact statement should be prepared pursuant to NEPA.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Authority

Section 10(c) of the ESA and its implementing regulations (50 CFR 17.22, and 50 CFR 17.32).

Hugh Morrison,
Acting Regional Director, U.S. Fish and Wildlife Service.

[FR Doc. 2022-12118 Filed 6-13-22; 8:45 am]

BILLING CODE 4333-15-P